NATIONAL CREDIT UNION ADMINISTRATION

Agency Information Collection for Comments Request: Proposed Collection

AGENCY: National Credit Union Administration (NCUA).

ACTION: Notice and request for comments.

SUMMARY: The National Credit Union Administration (NCUA) will submit the following information collection requests to the Office of Management and Budget (OMB) for review and clearance in accordance with the Paperwork Reduction Act of 1995, on or after the date of publication of this notice.

DATES: Written comments should be received on or before March 30, 2026 to be assured consideration.

ADDRESSES: Interested persons are invited to submit written comments on the information collection to Madeleine Humm, National Credit Union Administration, 1775 Duke Street, Alexandria, Virginia 22314, Suite 6070; Fax No. (703) 519-8161; or email at PRAComments@NCUA.gov.

FOR FURTHER INFORMATION CONTACT: Copies of the submission may be obtained by contacting Madeleine Humm at (703) 518-6547.

SUPPLEMENTARY INFORMATION:

OMB Number: 3133-NEW.

Title: Request for Individual Access and Consent for Disclosure of Records Protected Under the Privacy Act.

Abstract: The purpose of this collection is to ensure that the records of individuals who are the subject of NCUA systems of records are not wrongfully disclosed by NCUA. The information will be used by NCUA staff who process Freedom of Information Act (FOIA) and/Privacy Act requests for NCUA records when an individual requests NCUA records about themselves or consents to disclose records about themselves to a third-party. Specifically, NCUA Form “Request for Individual Access to Records Protected Under the Privacy Act” will be used to collect sufficient information to verify an individual's identity and identify the relevant system(s) of records containing the requested Privacy Act records. NCUA Form “Consent for Disclosure of Records Protected Under the Privacy Act” will be used to obtain individual consent to disclose Privacy Act records to a third-party, contact information for the person or entity to whom disclosure is authorized, and sufficient information to identify the relevant system(s) of records.

Affected Public: Individuals.

Estimated Total Annual Burden Hours: 16.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2026-01693 Filed 1-27-26; 8:45 am]

BILLING CODE 7535-01-P